SMALL BUSINESS ADMINISTRATION

Region III Regulatory Fairness Board; Public Federal Regulatory Enforcement Fairness Hearing

The Small Business Administration Region III Regulatory Fairness Board and the SBA Office of the National Ombudsman will hold a Public Hearing on Thursday, September 25, 2003, at 8:30 a.m. at the Duquesne University, 600 Forbes Avenue, Room 713 Rockwell Hall, Pittsburgh, PA 15282, to receive comments and testimony from small business owners, small government entities, and small non-profit organizations concerning regulatory enforcement and compliance actions taken by Federal agencies.

Anyone wishing to attend or to make a presentation must contact Donald Nemchick in writing or by fax, in order to be put on the agenda. Donald Nemchick, SBA Business Information Center, 700 River Ave., Pittsburgh, PA 15212, phone (412) 322-6441, fax (412) 395-6562, e-mail: wpbic@riversidecenterforinovation.com.

For more information, see our Web site at www.sba.gov/ombudsman.

Dated: September 2, 2003.
Michael L. Barrera,
National Ombudsman.

[FR Doc. 03-23079 Filed 9-9-03; 8:45 am]

BILLING CODE 8025-01-P